INTERNATIONAL TRADE COMMISSION

19 CFR Part 208

Implementing Rules for the United States-Mexico-Canada Agreement Implementation Act; Correction

AGENCY: United States International Trade Commission.

ACTION: Final rule; correction

SUMMARY: The United States International Trade Commission (Commission) is correcting a final rule that appeared in the Federal Register on April 8, 2021. The rule concerns the practices and procedures for investigations of United States-Mexico cross-border long-haul trucking services provided for in the United States-Mexico-Canada Agreement Implementation Act.

DATES: Effective May 10, 2021.

FOR FURTHER INFORMATION CONTACT: Lisa R. Barton, Secretary to the Commission, United States International Trade Commission, telephone (202) 205-2000, or William Gearhart, Office of the General Counsel, United States International Trade Commission, telephone (202) 205-3091. Hearing-impaired individuals may obtain information on this matter by contacting the Commission's TDD terminal at 202-205-1810. General information concerning the Commission may also be obtained by accessing its website at https://www.usitc.gov.

SUPPLEMENTARY INFORMATION: In FR Doc. 2021-07181 appearing on page 18183 in the Federal Register on April 8, 2021, the following correction is made:

§ 208.5 [Corrected]

On page 18185 in the second column, in part 208, the instruction “2. Amend § 208.5 by revising paragraph (e)(i)(vi) to read as follows:” is corrected to read “2. Amend § 208.5 by revising paragraph (e)(1)(vi) to read as follows:”

By order of the Commission.
Issued: April 9, 2021.
Lisa Barton,
Secretary to the Commission.

[FR Doc. 2021-07665 Filed 4-14-21; 8:45 am]

BILLING CODE 7020-02-P